Proclamation 10951 of June 13, 2025

Flag Day and National Flag Week, 2025

By the President of the United States of America

A Proclamation

On June 14, 1777, a banner of red, white, and blue was woven into history when the Second Continental Congress passed the First Flag Resolution, making our beloved Stars and Stripes the official flag of our emerging Republic. This Flag Day and National Flag Week, we pause to revere the star-spangled emblem of our freedom—and we honor the nearly 250 years of valor, sacrifice, and patriotism it has gloriously inspired.

In the summer of 1777, more than 2 years into the Revolution and nearly 1 year after the American Colonies declared their Independence from Great Britain, the need for unity, strength, and national identity was essential. On June 14, the Congress convened to adopt a momentous resolution that galvanized the Colonies under a majestic and commanding insignia and proclaimed “the flag of the United States be made of thirteen stripes, alternate red and white; that the union be thirteen stars, white in a blue field, representing a new Constellation.” In the midst of revolution, the emblem of our freedom was born—and the mightiest symbol for sovereignty and justice ever conceived by human hands was sewn into existence.

For nearly 250 years, Old Glory has presided over every chapter of the American story. It gallantly flew as General George Washington crossed the Delaware, as President Abraham Lincoln spoke at Gettysburg, and as American forces raised it on the summit of Iwo Jima, the shores of Inchon, and in the jungles of Vietnam. It waved from the moon on July 20, 1969 and rose from the ashes at Ground Zero on September 11, 2001—and time and again, it has been valiantly defended by patriots when extremist bands of anti-American agitators have sought to desecrate and destroy it.

Through every trial and triumph, the American flag has stood as an enduring symbol of courage, unity, and the unwavering belief that nothing will ever stand in the way of our beloved homeland, heritage, history, and values. This week, as we pause in grateful allegiance to our beautiful flag, we pray for God's continued providence and protection. May the red, white, and blue forever reign over the greatest Nation in the history of the world—and may it always prevail over those who seek to tear it down.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, DONALD J. TRUMP, President of the United States of America, do hereby proclaim June 14, 2025, as Flag Day, and the week starting June 8, 2025, as National Flag Week. I direct the appropriate officials to display the flag on all Federal Government buildings during this week, and I urge all Americans to observe Flag Day and National Flag Week by displaying the flag. I also encourage the people of the United States to proudly observe with all due ceremony those days from Flag Day through Independence Day, set aside by the Congress (89 Stat. 211), as a time to honor America, to celebrate our heritage in public gatherings and activities, and to publicly recite the Pledge of Allegiance to the Flag of the United States of America.

IN WITNESS WHEREOF, I have hereunto set my hand this thirteenth day of June, in the year of our Lord two thousand twenty-five, and of the Independence of the United States of America the two hundred and forty-ninth.

[FR Doc. 2025-11361

Filed 6-17-25; 11:15 am]

Billing code 3395-F4-P